DEPARTMENT OF HEALTH AND HUMAN SERVICES

National Institutes of Health

National Institute of Neurological Disorders and Stroke; Amended Notice of Meeting

Notice is hereby given of a change in the meeting of the National Advisory Neurological Disorders and Stroke Council, which was published in the Federal Register on April 22, 2019, 261819.

Added closed session for the HEAL MDWG on May 17, 2019. The meeting will now be partially closed to the public. The meeting will be closed from 11:00 a.m. to 12:00 p.m. and from 4:00 p.m. to 5:00 p.m. on May 17, 2019.

Dated: May 2, 2019.
Sylvia L. Neal,
Program Analyst, Office of Federal Advisory Committee Policy.

[FR Doc. 2019-09352 Filed 5-6-19; 8:45 am]

BILLING CODE 4140-01-P